NUCLEAR REGULATORY COMMISSION

Advisory Committee on the Medical Uses of Isotopes: Call for Nominations

AGENCY: U.S. Nuclear Regulatory Commission

ACTION: Call for nominations.

SUMMARY: The U.S. Nuclear Regulatory Commission (NRC) is soliciting for nominations for the Patients' Rights Advocate representative position on the Advisory Committee of the Medical Uses of Isotopes (ACMUI). Patients' Rights Advocate nominees should have professional or personal experience with and/or knowledge about patient advocacy. Also, involvement or leadership with patient advocacy organizations is preferred.

DATES: Nominations are due on or before January 26, 2021.

ADDRESSES: Nomination Process: Submit an electronic copy of resume or curriculum vitae, along with a cover letter, to Ms. Kellee Jamerson, Kellee.Jamerson@nrc.gov. The cover letter should describe the nominee's current involvement with patients' rights advocacy and express the nominee's interest in the position. Please ensure that the resume or curriculum vitae includes the following information, if applicable: Education; certification; professional association membership and committee membership activities; and number of years, timeframe, and type of setting for patient advocacy.

FOR FURTHER INFORMATION CONTACT: Ms. Kellee Jamerson, U.S. Nuclear Regulatory Commission, Office of Nuclear Material Safety and Safeguards; (301) 415-7408; Kellee.Jamerson@nrc.gov.

SUPPLEMENTARY INFORMATION: The ACMUI Patients' Rights Advocate representative provides advice to the NRC staff on patients' issues associated with the regulation of medical applications of byproduct material. This advice includes ensuring patients' rights are represented during the development and implementation of the NRC's medical-use regulations. This individual is appointed based on his or her professional and personal experience with and/or knowledge about patient advocacy, as well as involvement and/or leadership with patient advocacy organizations.

ACMUI members are selected based on their educational background, certification(s), work experience, involvement and/or leadership in professional society activities, and other information obtained from recommendation letters or during the selection process. Nominees should have the demonstrated ability to establish effective work relationships with peers and implement successful approaches to problem solving and conflict resolution. ACMUI members currently serve a four-year term and may be considered for reappointment to an additional term. The current ACMUI membership is comprised of the following professionals: (a) Nuclear medicine physician; (b) nuclear cardiologist; (c) nuclear medicine physicist; (d) therapy medical physicist; (e) radiation safety officer; (f) nuclear pharmacist; (g) two radiation oncologists; (h) patients' rights advocate; (i) Food and Drug Administration representative; (j) Agreement State representative; (k) healthcare administrator; and (l) diagnostic radiologist. For additional information about membership on the ACMUI, visit the ACMUI Membership web page, http://www.nrc.gov/about-nrc/regulatory/advisory/acmui/membership.html.

Nominees must be U.S. citizens and be able to devote up to 160 hours per year to ACMUI business. Members are expected to attend semi-annual meetings in Rockville, Maryland and to participate in teleconferences, as needed. Members who are not Federal employees are compensated for their service. In addition, members are reimbursed for travel (including per diem in lieu of subsistence) and are reimbursed secretarial and correspondence expenses. Full-time Federal employees are reimbursed for travel expenses only.

Security Background Check: The selected nominee will undergo a thorough security background check. Security paperwork may take the nominee several weeks to complete. Nominees will also be required to complete a financial disclosure statement to avoid conflicts of interest.

Dated: November 20, 2020.
Russell E. Chazell,
Advisory Committee Management Officer.

[FR Doc. 2020-26151 Filed 11-25-20; 8:45 am]

BILLING CODE 7590-01-P